FEDERAL COMMUNICATIONS COMMISSION

Notice of Public Information Collection(s) Being Submitted for Review to the Office of Management and Budget

December 11, 2008.

SUMMARY: As part of its continuing effort to reduce paperwork burden and as required by the Paperwork Reduction Act (PRA) of 1995 (44 U.S.C. 3501-3520), the Federal Communications Commission (Commission or FCC) invites the general public and other Federal agencies to comment on the following information collection(s). Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid control number. No person shall be subject to any penalty for failing to comply with a collection of information subject to the Paperwork Reduction Act that does not display a valid OMB control number.

DATES: Written PRA comments should be submitted on or before January 16, 2009. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the FCC's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information or copies of the information collection(s), contact Judith B. Herman at 202-418-0214 or via the Internet at Judith-B.Herman@fcc.gov.

To view or obtain a copy of this information collection request (ICR) submitted to OMB: (1) Go to the OMB/GSA Web page http://reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

SUPPLEMENTARY INFORMATION: OMB Control Number: None.

Title: Information Collection for the Preparation of Annual Reports to Congress regarding the Collection and Expenditure of Fees or Charges for the Support or Implementation of 911 or Enhanced 911 (E911) Services as set forth in the NET 911 Improvement Act of 2008, Public Law 110-283.

Form No.: Not Applicable.

Type of Review: New collection.

Respondents: States (50), District of Columbia (1), inhabited U.S. Territories and possessions (5).

Number of Respondents: 56 respondents and responses.

Estimated Time Per Response: Ten to fifty hours.

Frequency of Response: Annual reporting.

Obligation to Respond: Voluntary.

Total Annual Burden: 560 to 2800 hours.

Total Annual Cost: None.

Privacy Act Impact Assessment: This information collection does not affect individuals or households, and therefore a privacy impact assessment is not required.

Nature and Extent of Confidentiality: There are no assurances of confidentiality provided to respondents. The Commission's rules address the issue of confidentiality at sections 0.457, 0.459, and 0.461 (47 CFR 0.457, 0.459, and 0.461). These rules address access to records that are not routinely available to the public, requests and requirements that materials submitted to the Commission be withheld from public inspection, and requests for inspection of materials not routinely available for public inspection.

Needs and Uses: The Federal Communications Commission (Commission) is directed by statute (New and Emerging Technologies 911 Improvement Act of 2008, Pub. L. No. 110-283, 122 Stat. 2620 (2008) (NET 911 Act)) to submit annually a “Fee Accountability Report” to the Committee on Commerce, Science, and Transportation of the Senate and the Committee on Energy and Commerce of the House of Representative “detailing the status in each State of the collection and distribution [of] fees or charges” for “the support or implementation of 911 or enhanced 911 services,” including “findings on the amount of revenues obligated or expended by each State or political subdivision thereof for any purpose other than the purpose for which any such fees or charges are specified.” (NET 911 Act, 122 Stat. at 2622)

The statute directs the Commission to submit its first annual report within one year after the date of enactment of the NET 911 Act. (NET 911 Act, 122 Stat. at 2622) Given that the NET 911 Act was enacted on July 23, 2008, the first annual report is due to Congress on July 22, 2009. The information sought by the Commission in this information collection is essential to its ability to prepare the Fee Accountability Report that it is obliged by the NET 911 Act to submit to Congress.

Description of Information Collection: The Commission will collect information for the annual preparation of the Fee Accountability Report via a Web-based survey that appropriate State officials (e.g., State 911 Administrators and Budget Officials) will be able to access to submit data pertaining to the collection and distribution of fees or charges for the support or implementation of 911 or enhanced 911 services. As described in our 60-day notice [73 FR 56583], this information will include data regarding whether the respective state collects and distributes such fees or charges, the nature (e.g., the amount and method of assessment of collection) and the amount of revenues obligated or expended for any purpose other than the purpose for which any such 911 or enhanced 911 service fees or charges are specified. More specifically, the survey would request information regarding whether the respective state has established a funding mechanism designated for or imposed for the purposes of 911 or enhanced 911 implementation (including a citation to the legal authority for such mechanism), the amount of the fee or charge, the total amount collected from the surcharge, the process by which funds collected for the purpose of 911 or enhanced 911 implementation are made available to localities, whether the state has established written criteria on the allowable uses of the collected funds (and the legal citation to any such criteria), what entity in the state has authority to approve the expenditure of funds collected for purposes of 911 or enhanced 911, a description of the major aspects of any oversight procedures, if established, whether all of the funds collected for the purposes of 911 or enhanced 911 implementation have been made available or used for the purposes designated by the funding mechanism or otherwise used to support the implementation of 911 or enhanced 911, what amount of funds collected for purposes of 911 or enhanced 911 implementation were made available or used for any purposes other than the ones designated by the funding mechanism or otherwise unrelated to 911 or enhanced 911 implementation, and the unrelated purposes for which the funds collected for the purposes of 911 or 911 implementation were made available or used. Respondents may also provide any other comments on their funding mechanism for 911 or enhanced 911 implementation they wish to provide.

Consistent with Section 6(f) of the NET 911 Act, the Commission will request that state officials report this information with respect to the fees and charges in connection with implementation of 911 or enhanced 911 services within their state, including any political subdivision, Indian tribe and/or village and regional corporation serving any region established pursuant to the Alaska Native Claims Settlement Act that otherwise lie within their state boundaries. In addition, consistent with the definition of “State” set out in 47 U.S.C. 153(40) of the Communications Act, the Commission will collect this information from states as well as the District of Columbia and the inhabited U.S. Territories and possessions.

Federal Communications Commission.
Marlene H. Dortch,
Secretary.

[FR Doc. E8-29915 Filed 12-16-08; 8:45 am]

BILLING CODE 6712-01-P